DEPARTMENT OF ENERGY

Federal Energy Regulatory Commission

Combined Notice of Filings #2

Take notice that the Commission received the following electric rate filings:

Docket Numbers: ER13-1936-002.

Applicants: PJM Interconnection, L.L.C.

Description: Compliance filing: Compliance filing per 9/21/15 Order—Revisions to OA Schedule 6-A to be effective 1/1/2015.

Filed Date: 10/21/15.

Accession Number: 20151021-5126.

Comments Due: 5 p.m. ET 11/12/15.

Docket Numbers: ER13-1940-007.

Applicants: Ohio Valley Electric Corporation.

Description: Compliance filing: Interregional Compliance filing M-3 to be effective 1/1/2015.

Filed Date: 10/21/15.

Accession Number: 20151021-5128.

Comments Due: 5 p.m. ET 11/12/15.

Docket Numbers: ER16-131-000.

Applicants: Heber Geothermal Company LLC.

Description: Baseline eTariff Filing: Petition for Approval of Initial Market-Based Rate Tariff to be effective 12/16/2015.

Filed Date: 10/21/15.

Accession Number: 20151021-5129.

Comments Due: 5 p.m. ET 11/12/15.

Docket Numbers: ER16-132-000.

Applicants: Michigan Electric Transmission Company.

Description: Section 205(d) Rate Filing: Filing of Agreement for Sharing of Physical Security Related Asset Costs to be effective 12/21/2015.

Filed Date: 10/21/15.

Accession Number: 20151021-5144.

Comments Due: 5 p.m. ET 11/12/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 21, 2015.
Nathaniel J. Davis, Sr.,
Deputy Secretary.

[FR Doc. 2015-27252 Filed 10-26-15; 8:45 am]

BILLING CODE 6717-01-P